RAILROAD RETIREMENT BOARD

Agency Forms Submitted for OMB Review, Request for Comments

Summary: In accordance with the Paperwork Reduction Act of 1995 (44 U.S.C. Chapter 35), the Railroad Retirement Board (RRB) is forwarding two (2) Information Collection Requests (ICR) to the Office of Information and Regulatory Affairs (OIRA), Office of Management and Budget (OMB). Our ICR describes the information we seek to collect from the public. Review and approval by OIRA ensures that we impose appropriate paperwork burdens.

The RRB invites comments on the proposed collections of information to determine (1) the practical utility of the collections; (2) the accuracy of the estimated burden of the collections; (3) ways to enhance the quality, utility and clarity of the information that is the subject of collection; and (4) ways to minimize the burden of collections on respondents, including the use of automated collection techniques or other forms of information technology. Comments to RRB or OIRA must contain the OMB control number of the ICR. For proper consideration of your comments, it is best if RRB and OIRA receive them within 30 days of publication date.

1. Title and purpose of information collection: Non-Resident Questionnaire; 3220-0145.

Under Public Laws 98-21 and 98-76, benefits under the Railroad Retirement Act payable to annuitants living outside the United States may be subject to taxation under United States income tax laws. Whether the social security equivalent and non-social security equivalent portions of Tier I, Tier II, vested dual benefit, or supplemental annuity payments are subject to tax withholding, and whether the same or different rates are applied to each payment, depends on a beneficiary's citizenship and legal residence status, and whether exemption under a tax treaty between the United States and the country in which the beneficiary is a legal resident has been claimed. To effect the tax withholding, the Railroad Retirement Board (RRB) needs to know a nonresidents citizenship and legal residence status.

To secure the required information, the RRB utilizes Form RRB-1001, Nonresident Questionnaire, as a supplement to an application as part of the initial application process, and as an independent vehicle for obtaining the needed information when an annuitant's residence or tax treaty status changes. Completion is voluntary. One response is requested of each respondent.

The RRB estimates that 1,300 Form RRB-1001's are completed annually. The completion time for Form RRB-1001 is estimated at 30 minutes.

Previous Requests for Comments: The RRB has already published the initial 60-day notice (74 FR 17895 on April 17, 2009) required by 44 U.S.C. 3506(c)(2). That request elicited no comments.

Information Collection Request (ICR)

Title: Nonresident Questionnaire.

Form(s) submitted: RRB-1001.

OMB Control Number: 3220-0145.

Expiration date of current OMB clearance: 7/31/2009.

Type of request: Extension without change of a currently approved collection.

Affected Public: Individuals or households.

Estimated annual number of respondents: 1,300.

Total annual responses: 1,300.

Total annual reporting hours: 650.

Abstract: Under the Railroad Retirement Act, the benefits payable to an annuitant living outside the United States may be subject to withholding under Public Laws 98-21 and 98-76. The form obtains the information needed to determine the amount to be withheld.

Changes Proposed: The RRB proposes no changes to Form RRB-1001.

2. Title and Purpose of Information Collection: Application for Survivor Insurance Annuities.

Under Section 2(d) of the Railroad Retirement Act (RRA), monthly survivor annuities are payable to surviving widow(er)s, parents, unmarried children, and in certain cases, divorced wives (husbands), mothers (fathers), remarried widow(er)s, and grandchildren of deceased railroad employees. The collection obtains the information required by the RRB to determine entitlement to and the amount of the annuity applied for.

The RRB currently utilizes Form(s) AA-17, Application for Widow(ers) Annuity, AA-17b Applications for Determination of Widow(er) Disability, AA-17cert, Application Summary and Certification, AA-18, Application for Mother's/Father's and Child's Annuity, AA-19, Application for Child's Annuity, AA-19a, Application for Determination of Child Disability, and AA-20, Application for Parent's Annuity to obtain the necessary information. One response is requested of each respondent. Completion is required to obtain benefits.

Estimate of Annual Respondent Burden
Form No. | Annual responses | Time (min) | Burden (hrs)
AA-17 (without assistance) | 100 | 47 | 78
AA-17b (total) | 300 |  | 270
(with assistance) | 280 | 40 | 187
(without assistance) | 20 | 50 | 17
AA-17cert | 3,000 | 20 | 1,000
AA-18 (without assistance) | 12 | 47 | 9
AA-19 (without assistance) | 9 | 47 | 7
AA-19a (total) | 300 |  | 230
(with assistance) | 285 | 45 | 214
(without assistance) | 15 | 65 | 16
AA-20 (without assistance) | 1 | 47 | 1
Total | 4,022 |  | 1,529

Previous Requests for Comments: The RRB has already published the initial 60-day notice (74 FR 18408 on April 22, 2009) required by 44 U.S.C. 3506(c)(2). That request elicited no comments.

Information Collection Request (ICR)

Title: Application for Survivor Insurance Annuities.

OMB Control Number: 3220-0030.

Form(s) submitted: AA-17, AA-17b, AA-17cert, AA-18, AA-19, AA-19a, AA-20.

Type of request: Extension without change of a currently approved collection.

Affected public: Individuals or households.

Abstract: Under Section 2(d) of the Railroad Retirement Act, monthly survivor annuities are payable to surviving widow(er)s, parents, unmarried children, and in certain cases, divorced wives (husband), mothers (fathers), remarried widow(er)s and grandchildren of deceased railroad employees. The collection obtains information needed by the RRB for determining entitlement to and amount of the annuity applied for.

Changes Proposed: The RRB proposes no changes to the forms in the information collection.

The burden estimate for the ICR is as follows:

Estimated annual number of respondents: 4,022.

Total annual responses: 4,022.

Total annual reporting hours: 1,529.

Additional Information or Comments: Copies of the form and supporting documents can be obtained from Charles Mierzwa, the agency clearance officer at (312-751-3363) or Charles.Mierzwa@rrb.gov.

Comments regarding the information collection should be addressed to Ronald J. Hodapp, Railroad Retirement Board, 844 North Rush Street, Chicago, Illinois, 60611-2092 or Ronald.Hodapp@rrb.gov and to the OMB Desk Officer for the RRB, at the Office of Management and Budget, Room 10230, New Executive Office Building, Washington, DC 20503.

Charles Mierzwa,
Clearance Officer.

[FR Doc. E9-17510 Filed 7-22-09; 8:45 am]

BILLING CODE 7905-01-P